DEPARTMENT OF ENERGY

Federal Energy Regulatory Commission

Combined Notice of Filings

Take notice that the Commission has received the following Natural Gas Pipeline Rate and Refund Report filings:

Filings Instituting Proceedings

Docket Numbers: RP16-383-000.

Applicants: Iroquois Gas Transmission System, L.P.

Description: Section 4(d) Rate Filing: 01/14/16 Negotiated Rates—Sequent Energy Management (HUB) 3075-89 to be effective 1/13/2016.

Filed Date: 1/14/16.

Accession Number: 20160114-5154.

Comments Due: 5 p.m. ET 1/26/16.

Docket Numbers: RP16-384-000.

Applicants: Iroquois Gas Transmission System, L.P.

Description: Section 4(d) Rate Filing: 01/14/16 Negotiated Rates—Mercuria Energy Gas Trading LLC (HUB) 7540-89 to be effective 1/13/2016.

Filed Date: 1/14/16.

Accession Number: 20160114-5236.

Comments Due: 5 p.m. ET 1/26/16.

Docket Numbers: RP16-385-000.

Applicants: Paiute Pipeline Company.

Description: Section 4(d) Rate Filing: Nonconforming TSA 48-A to be effective 1/15/2016.

Filed Date: 1/14/16.

Accession Number: 20160114-5284.

Comments Due: 5 p.m. ET 1/26/16.

Docket Numbers: RP16-386-000.

Applicants: Dominion Transmission, Inc.

Description: Section 4(d) Rate Filing: DTI—January 14, 2016 Nonconforming Service Agreement to be effective 2/1/2016.

Filed Date: 1/14/16.

Accession Number: 20160114-5291.

Comments Due: 5 p.m. ET 1/26/16.

Docket Numbers: RP16-387-000.

Applicants: Guardian Pipeline, L.L.C.

Description: Section 4(d) Rate Filing: Negotiated Rate PAL Agreement—MIECO INC. to be effective 1/15/2016.

Filed Date: 1/14/16.

Accession Number: 20160114-5372.

Comments Due: 5 p.m. ET 1/26/16.

Docket Numbers: RP16-388-000.

Applicants: East Cheyenne Gas Storage, LLC.

Description: Section 4(d) Rate Filing: ECGS Limited Section 4 Filing to be effective 2/14/2016.

Filed Date: 1/14/16.

Accession Number: 20160114-5379.

Comments Due: 5 p.m. ET 1/26/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1566-000.

Applicants: Tennessee Gas Pipeline Company.

Description: Report Filing: Revenue Sharing Report—2016.

Filed Date: 1/12/16.

Accession Number: 20160112-5122.

Comments Due: 5 p.m. ET 1/25/16.

Docket Numbers: RP15-555-001.

Applicants: Columbia Gas Transmission, LLC.

Description: Compliance filing TCO RAM Compliance—LAUF Report.

Filed Date: 1/15/16.

Accession Number: 20160115-5420.

Comments Due: 5 p.m. ET 1/27/16.

Docket Numbers: RP15-557-001.

Applicants: Columbia Gulf Transmission, LLC.

Description: Compliance filing TRA LAUF Compliance Report.

Filed Date: 1/15/16.

Accession Number: 20160115-5575.

Comments Due: 5 p.m. ET 1/27/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2016.
Nathaniel J. Davis, Sr.,
Deputy Secretary.

[FR Doc. 2016-01457 Filed 1-25-16; 8:45 am]

BILLING CODE 6717-01-P